SMALL BUSINESS ADMINISTRATION

[Disaster Declaration #14474 and #14475]

California; Disaster Number CA-00238

AGENCY: U.S. Small Business Administration.

ACTION: Amendment 3.

SUMMARY: This is an amendment of the Presidential declaration of a major disaster for the State of California (FEMA-4240-DR), dated 09/22/2015.

Incident: Valley Fire and Butte Fire.

Incident Period: 09/09/2015 through 10/30/2015.

Effective Date: 10/30/2015.

Physical Loan Application Deadline Date: 11/23/2015.

EIDL Loan Application Deadline Date: 06/22/2016.

ADDRESSES: Submit completed loan applications to: U.S. Small Business Administration, Processing and Disbursement Center, 14925 Kingsport Road, Fort Worth, TX 7615.5.

FOR FURTHER INFORMATION CONTACT: A. Escobar, Office of Disaster Assistance, U.S. Small Business Administration, 409 3rd Street SW., Suite 6050, Washington, DC 20416.

SUPPLEMENTARY INFORMATION: The notice of the President's major disaster declaration for the State of California, dated 09/22/2015 is hereby amended to establish the incident period for this disaster as beginning 09/09/2015 and continuing through 10/30/2015.

All other information in the original declaration remains unchanged.

(Catalog of Federal Domestic Assistance Numbers 59008)

James E. Rivera,
Associate Administrator for Disaster Assistance.

[FR Doc. 2015-28874 Filed 11-12-15; 8:45 am]

BILLING CODE 8025-01-P